DEPARTMENT OF TRANSPORTATION

Federal Highway Administration

Environmental Impact Statement: Ottawa County, MI

AGENCY: Federal Highway Administration (FHWA), U.S. DOT.

ACTION: Notice of Availability (NOA) of the Final Environmental Impact Statement (FEIS) for the US-31 Holland to Grand Haven Project.

SUMMARY: This notice announces the availability of the Final Environmental Impact Statement (FEIS) for the US-31 Holland to Grand Haven Project. This action is pursuant to the National Environmental Policy Act (NEPA) of 1969, 42 U.S.C. 4321 et seq, as amended and the Council on Environmental Quality Regulations (40 CFR Parts 1500-1508). The FEIS identifies the Preferred Alternative which proposes improvements to US-31 from East Lakewood Boulevard north to Quincy Street, in Holland; and from south of Franklin Street north to north of Jackson Street in Grand Haven. The new M-231 route would be constructed west of 120th Avenue, from M-45 (Lake Michigan Drive) north to the I-96/M-104 interchange, including a new crossing of the Grand River; improvements to M-104, near I-96; new ramps at the I-96/M-231 interchange; and improvements to the I-96/112th Avenue interchange.

The project is located in Ottawa County, Michigan. The FEIS summarizes the planning basis, the process used to determine the Preferred Alternative and associated impacts, describes the anticipated environmental impacts and proposed mitigation, and addresses comments received on the Draft Environmental Impact Statement.

DATES: Any comments should be received on or before March 22, 2010. The FEIS is available for public review during a 30-day waiting period per 23 CFR 771.127. To ensure your comments are considered, submit your comments on or before March 22, 2010. FHWA cannot issue the Record of Decision (ROD) any sooner than 30 days after publication of the final EIS notice in the Federal Register (currently scheduled to be published on February 19, 2010). The ROD will present the basis for the decision as specified in 40 CFR 1505.2, and summarize any mitigation measures that will be incorporated in the project. Substantive comments received by March 22nd that address new concerns or fatal flaws in the FEIS's analysis will be responded to in the ROD.

ADDRESSES: 1. Document Availability: Copies of the FEIS are available for public inspection and review at the following locations:

• Fruitport Branch Library, 47 West Park St., Fruitport.

• Herrick Public Library, 300 S. River Ave., Holland.

• Howard Miller Public Library, 14 S. Church St., Zeeland.

• Loutit Library, 407 Columbus St., Grand Haven.

• Norton Shores Branch Library, 705 Seminole Rd., Norton Shores.

• Warner Baird District Library, 123 Exchange St., Spring Lake.

• Robinson Township Hall, 12010 120th Ave., Grand Haven.

• Crockery Township, 17431 112th Ave., Nunica.

• Holland Township, 353 N. 120th Ave., Holland.

• City of Holland, 270 S. River Ave., Holland.

• City of Grand Haven, 519 Washington Ave., Grand Haven.

• Grand Haven Township, 13300 168th Ave., Grand Haven.

• Macatawa Area Coordinating Council, 301 Douglas Ave., Holland.

• Ottawa County Planning & Grants Office, 12220 Fillmore St., Rm. 170, West Olive.

• MDOT Grand Region Office, 1420 Front St., Grand Rapids.

• MDOT Muskegon Transportation Service Center, 2225 Olthoff Dr., Muskegon.

• MDOT Grand Rapids Transportation Service Center, 2060 Leonard St., N.E., Grand Rapids.

• MDOT Bureau of Transportation Planning, 425 W. Ottawa St., Lansing.

The document also may be viewed and commented on at: http://www.michigan.gov/mdotstudies.

Copies of the FEIS may be requested from Bob Parsons (Public Involvement and Hearings Officer) at the Michigan Department of Transportation, 425 W. Ottawa Street, P.O. Box 30050, Lansing, MI 48909 or by calling (517) 373-9534.

2. Comments: Send any comments on the FEIS to the Michigan Department of Transportation, c/o Bob Parsons (Public Involvement and Hearings Officer), 425 W. Ottawa Street, P.O. Box 30050, Lansing, MI 48909; Fax: (517) 373-9255; or e-mail: parsonsb@michigan.gov. Information regarding this proposed action is available in alternative formats upon request.

FOR FURTHER INFORMATION CONTACT: Ruth Hepfer, Area Engineer at FHWA Michigan Division, 315 W. Allegan Street, Room 201; Lansing, MI 48933; by phone at (517) 702-1847, or email at Ruth.Hepfer@dot.gov.

David Williams, Environmental Program Manager, FHWA Michigan Division, 315 W. Allegan Street, Room 201; Lansing, MI 48933; by phone at (517) 702-1820; or email at David.Williams@dot.gov.

SUPPLEMENTARY INFORMATION: The DEIS for the US-31 Holland to Grand Haven Project was approved in November 1998. Since more than 11 years has passed since the signing of the DEIS, a re-evaluation of the DEIS was done in accordance with 23 CFR 771.129, and is included in the FEIS. This FEIS reflects the comments received during the public hearing process and updated data in all critical areas.

Authority: 42 U.S.C. 4321 et seq, as amended and the Council on Environmental Quality Regulations (40 CFR Parts 1500-1508)23 CFR 771.117; and 23 U.S.C. 139(1)(1)

Issued on: February 10, 2010.
James J. Steele,
Division Administrator, Lansing, Michigan.

[FR Doc. 2010-3110 Filed 2-18-10; 8:45 am]

BILLING CODE 4910-22-P